GENERAL SERVICES ADMINISTRATION

[Notice-MA-2015-01; Docket No. 2015-0002, Sequence No. 5]

Federal Travel Regulation (FTR); Relocation Allowances—Relocation Income Tax (RIT) Allowance Tables

AGENCY: Office of Government-wide Policy, U.S. General Services Administration (GSA).

ACTION: Notice of a bulletin.

SUMMARY: The purpose of this notice is to inform agencies that FTR Bulletin 15-03 pertaining to Relocation Allowances—Relocation Income Tax (RIT) Allowance Tables is now available online at www.gsa.gov/ftrbulletin.

DATES: Effective: April 6, 2015.

FOR FURTHER INFORMATION CONTACT: Mr. Rick Miller, Office of Asset and Transportation Management (MA), Office of Government-wide Policy, GSA, at 202-501-3822 or via email at rodney.miller@gsa.gov. Please cite FTR Bulletin 15-03.

SUPPLEMENTARY INFORMATION: The GSA published FTR Amendment 2008-04 in the Federal Register at 73 FR 35952 on June 25, 2008, specifying that GSA would no longer publish the RIT Allowance tables in Title 41 of the Code of Federal Regulation Part 302-17, Appendices A through D; instead, the tables would be available on a GSA Web site. FTR Bulletin 15-03: Relocation Allowances—Relocation Income Tax (RIT) Allowance Tables is now available and provides the annual changes to the RIT allowance tables necessary for calculating the amount of a transferee's increased tax burden due to his or her official permanent change of station. FTR Bulletin 15-03 and all other FTR Bulletins can be found at www.gsa.gov/ftrbulletin.

Dated: March 30, 2015.
Giancarlo Brizzi,
Acting Associate Administrator, Office of Government-wide Policy.

[FR Doc. 2015-07866 Filed 4-3-15; 8:45 am]

BILLING CODE 6820-14-P